DEPARTMENT OF THE INTERIOR

Bureau of Land Management

[LLWY-957000-16-L13100000-PP0000]

Filing of Plats of Survey, Nebraska and Wyoming

AGENCY: Bureau of Land Management, Interior.

ACTION: Notice.

SUMMARY: The Bureau of Land Management (BLM) is scheduled to file plats of survey thirty (30) calendar days from the date of this publication in the BLM Wyoming State Office, Cheyenne, Wyoming. The surveys were executed at the request of the U. S. Forest Service, the Bureau of Indian Affairs and the Bureau of Land Management and are necessary for the management of these lands. The lands surveyed are:

The plat and field notes representing the dependent resurvey of portions of the west and north boundaries and portions of the subdivisional lines, and the survey of the subdivision of certain sections, Township 30 North, Range 52 West, Sixth Principal Meridian, Nebraska, Group No. 183, was accepted August 11, 2016.

The plat and field notes representing the dependent resurvey of a portion of the subdivisional lines, and the survey of the subdivision of section 24, Township 30 North, Range 53 West, Sixth Principal Meridian, Nebraska, Group No. 183, was accepted August 11, 2016.

The plat and field notes representing the corrective dependent resurvey of portions of the subdivisional lines and the subdivision of section 32, the dependent resurvey of portions of the east, south and west boundaries, the subdivisional lines and subdivision of section lines, and the survey of the subdivision of certain sections, Township 26 North, Range 6 East, Sixth Principal Meridian, Nebraska, Group No. 184, was accepted August 11, 2016.

The plat and field notes representing the dependent resurvey of portions of Lot No. 43, a portion of the Fourteenth Guide Meridian West, through Township 24 North, between Ranges 112 and 113 West, portions of the subdivisional lines, and the 1899 meanders of the banks of the Green River, the survey of the subdivision of section 5, the survey of the 2013 meanders of the westerly shore of Fontenelle Reservoir in section 5, and the metes and bounds survey of the west right-of-way of Wyoming State Highway No. 189 through section 5, Township 24 North, Range 112 West, Sixth Principal Meridian, Wyoming, Group No. 894, was accepted August 11, 2016.

The plat and field notes representing the dependent resurvey of a portion of the Sixth Standard Parallel North, through Range 112 West, portions of the subdivisional lines, and the 1901 meanders of the banks of the Green River, the survey of the subdivision of certain sections, the survey of the 2013-2014 meanders of the westerly shore of Fontenelle Reservoir in certain sections, and the metes-and-bounds survey of the west right-of-way of Wyoming State Highway No. 189 through certain sections, Township 25 North, Range 112 West, Sixth Principal Meridian, Wyoming, Group No. 895, was accepted August 11, 2016.

The plat and field notes representing the dependent resurvey of a portion of the east boundary and subdivisional lines, and the survey of the subdivision of section 24, Township 13 North, Range 82 West, Sixth Principal Meridian, Wyoming, Group No. 929, was accepted August 11, 2016.

The plat and field notes representing the dependent resurvey of a portion of the subdivisional lines and the survey of the subdivision of section 27, Township 54 North, Range 85 West, Sixth Principal Meridian, Wyoming, Group No. 930, was accepted August 11, 2016.

The plat and field notes representing the dependent resurvey of portions of the north boundary and subdivisional lines, and the survey of the subdivision of sec. 2, Township 13 North, Range 77 West, Sixth Principal Meridian, Wyoming, Group No. 931, was accepted August 11, 2016.

The plat and field notes representing the dependent resurvey of portions of the subdivisional lines, subdivision of section 24 and lots 10, 11 and 12, section 24, Township 14 North, Range 84 West, Sixth Principal Meridian, Wyoming, Group No. 932, was accepted August 11, 2016.

The plat and field notes representing the dependent resurvey of a portion of the east boundary and the survey of the subdivision of section 12, Township 29 North, Range 100 West, Sixth Principal Meridian, Wyoming, Group No. 933, was accepted August 11, 2016.

The plat and field notes representing the dependent resurvey of a portion of the subdivisional lines, and a portion of the subdivision of section 15, Township 18 North, Range 80 West, Sixth Principal Meridian, Wyoming, Group No. 935, was accepted August 11, 2016.

The plat and field notes representing the dependent resurvey of a portion of the subdivisional lines and the survey of the subdivision of section 19, Township 50 North, Range 63 West, Sixth Principal Meridian, Wyoming, Group No. 936, was accepted August 11, 2016.

The plat and field notes representing the dependent resurvey of a portion of the Thirteenth Auxiliary Guide Meridian West, through Township 31 North, between Ranges 108 and 109 West, the subdivisional lines and the 1892 meanders of the banks of New Fork River in section 12, and the survey of the subdivision of section 12, Township 31 North, Range 109 West, Sixth Principal Meridian, Wyoming, Group No. 939, was accepted August 11, 2016.

FOR FURTHER INFORMATION CONTACT: WY957, Bureau of Land Management, 5353 Yellowstone Road, P.O. Box 1828, Cheyenne, Wyoming 82003.

SUPPLEMENTARY INFORMATION: A person or party who wishes to protest against any of the above surveys must file a written notice within thirty (30) calendar days from the date of this publication with the Wyoming State Director, Bureau of Land Management, at the above address, stating that they wish to protest. A statement of reasons for the protest may be filed with the notice of protest and must be filed with the Wyoming State Director within thirty (30) calendar days after the protest is filed. If a protest against the survey is received prior to the date of official filing, the filing will be stayed pending consideration of the protest. A plat will not be officially filed until the day after all protests have been dismissed or otherwise resolved. Before including your address, phone number, email address, or other personal identifying information in your protest, you should be aware that your entire protest—including your personal identifying information—may be made publicly available at any time. While you can ask us to withhold your personal identifying information from public review, we cannot guarantee that we will be able to do so.

Copies of the preceding described plats and field notes are available to the public at a cost of $4.20 per plat and $.13 per page of field notes.

Dated: August 12, 2016.
John P. Lee,
Chief Cadastral Surveyor, Division of Support Services.

[FR Doc. 2016-19708 Filed 8-17-16; 8:45 am]

BILLING CODE 4310-22-P